NATIONAL AERONAUTICS AND SPACE ADMINISTRATION

48 CFR Part 1819

RIN 2700-AC33

Small Business Competitiveness Demonstration Program

AGENCY: National Aeronautics and Space Administration.

ACTION: Final rule.

SUMMARY: This final rule revises the NASA FAR Supplement by removing Research and Development in the Physical Engineering and Life Sciences from the list of targeted industry categories (TICs) for NASA under the Small Business Competitiveness Demonstration Program. This change is required to prevent potential conflicts between the goals of the Small Business Competitiveness Demonstration Program and the Small Business Innovative Research Program created by the conversion from Standard Industrial Classification to the North American Industry Classification System.

EFFECTIVE DATE: August 6, 2002.

FOR FURTHER INFORMATION CONTACT: Yolande Harden, NASA, Office of Procurement, Contract Management Division (Code HK); (202) 358-1279; e-mail: yharden@hq.nasa.gov.

SUPPLEMENTARY INFORMATION:

A. Background

The conversion from Standard Industrial Classification (SIC) to North American Industry Classification System (NAICS) combined several stand-alone classification categories together. As a result, NAICS 54171 now contains not only categories previously listed as TICs but also other categories, some of which are used in conjunction with the Small Business Innovative Research (SBIR) Program. The deletion of this category will avoid any potential conflicts between the goals of the Competitiveness Demonstration Program and the SBIR Program.

B. Regulatory Flexibility Act

This final rule does not constitute a significant revision within the meaning of FAR 1.501 and Public Law 98-577, and publication for public comment is not required. However, NASA will consider comments from small entities concerning the affected NFS part 1819 in accordance with 5 U.S.C. 610.

C. Paperwork Reduction Act

The Paperwork Reduction Act does not apply because the changes do not impose recordkeeping or information collection requirements which require the approval of the Office of Management and Budget under 44 U.S.C. 3501, et seq.

List of Subjects in 48 CFR Part 1819

Government Procurement.

Tom Luedtke,
Assistant Administrator for Procurement.

Accordingly, 48 CFR Part 1819 is amended as follows:

1. The authority citation for 48 CFR Part 1819 continues to read as follows:

Authority: 42 U.S.C. 2473(c)(1).

PART 1819—SMALL BUSINESS PROGRAMS

1819.1005 [Amended]

2. Amend the table in paragraph (b) of section 1819.1005 as follows:

a. In the first column by removing “54171”; and

b. In the second column by removing “Research and Development in the Physical Engineering and Life Sciences”.

[FR Doc. 02-19814 Filed 8-5-02; 8:45 am]

BILLING CODE 7510-01-P